DEPARTMENT OF TRANSPORTATION

Federal Highway Administration

Notice of Final Federal Agency Actions on Proposed Interchange Project in Massachusetts

AGENCY: Federal Highway Administration (FHWA), DOT.

ACTION: Notice of Limitations on Claims for Judicial Review of Actions by FHWA and the United States Army Corps of Engineers (USACE).

SUMMARY: This notice announces actions taken by the FHWA and the USACE that are final within the meaning of 23 U.S.C. 139(l)(1). The actions relate to the proposed Route 79/I-195 Interchange Project in Fall River—Bristol County, Massachusetts. The actions grant permits and approvals for the project.

DATES: By this notice, the FHWA is advising the public of final agency actions subject to 23 U.S.C. 139(l)(1). A claim seeking judicial review of the Federal agency actions on the highway project will be barred unless the claim is filed on or before June 30, 2013. If the Federal law that authorizes judicial review of a claim provides a time period of less than 150 days for filing such claim, then that shorter time period still applies.

FOR FURTHER INFORMATION CONTACT: For FHWA: Ms. Damaris Santiago, Environmental Engineer, FHWA Massachusetts Division Office, 55 Broadway, 10th Floor, Cambridge, MA 02142, Monday through Friday 8:00 a.m.-4:30 p.m., 617-494-2419, DSantiago@dot.gov. For the Massachusetts Department of Transportation Highway Division (MassDOT): Ms. Mary Hynes, Project Manager, Environmental Services, 10 Park Plaza, Room 4260, Boston, MA 02116, Monday through Friday 8:45 a.m.-5:00 p.m., 857-368-8801, mary.e.hynes@state.ma.us.

SUPPLEMENTARY INFORMATION: Notice is hereby given that the FHWA and USACE have taken final agency action subject to 23 U.S.C. 139(l)(1) by issuing a Finding of No Significant Impact (FONSI) and a Section 404 Permit, respectively, for the following project in the Commonwealth of Massachusetts. The project consists of removing the two-level Route 79 viaduct and constructing an at-grade Route 79 that will utilize portions of existing streets (Broadway Extension, Davol/Viaduct Street, and Davol Street). The at-grade roadway between Anawan/Pocasset Street and Central Street will be at the level of existing Davol/Viaduct Street and on a structure spanning the railroad tracks and the Quequechan River. The roadway will be four through lanes (two northbound and two southbound) for most of its length within the project area, plus turn lanes. New ramps will maintain the connections with I-195, Broadway Extension, Central Street, and Milliken Boulevard. Water Street Connector will be a new two-way roadway improving access between the waterfront and Route 79. Sidewalk and bicycle accommodations will be provided and improved.

The actions by the Federal agencies and the laws under which the actions were taken are described in the Environmental Assessment (EA), for which a Finding of No Significant Impact (FONSI) was issued November 28, 2012. Notice is hereby given that the USACE has taken final agency actions within the meaning of 23 U.S.C. § 139(l)(1) by issuing permits and approvals for the interchange project. The actions by the USACE, related final actions by other Federal agencies, and the laws under which such actions were taken, are described in the USACE decision and its administrative record for the project, referenced as USACE Permit Number NAE-2011-01843. The EA, FONSI, and USACE permit are available by contacting the Massachusetts Department of Transportation at the address provided above. Information about the project also is available from the FHWA at the address provided above.

This notice applies to all Federal agency decisions as of the issuance date of this notice and all laws under which such actions were taken, including, but are not limited to:

1. General: National Environmental Policy Act (NEPA) [42 U.S.C. 4321-4351].

2. Wetlands and Water Resources: Clean Water Act (Section 404) [33 U.S.C. 1251-1377].

Authority: 23 U.S.C. 139(l)(1).

Issued on: January 18, 2013.
Pamela S. Stephenson,
Division Administrator, Cambridge, MA.

[FR Doc. 2013-01824 Filed 1-30-13; 8:45 am]

BILLING CODE 4910-RY-M